DEPARTMENT OF THE INTERIOR

National Park Service

Notice of Inventory Completion for Native American Human Remains and Associated Funerary Objects From Cass County, IN in the Possession of the Indiana State Museum and Historic Sites, Indianapolis, IN

AGENCY: National Park Service.

ACTION: Notice.

Notice is hereby given in accordance with provisions of the Native American Graves Protection and Repatriation Act (NAGPRA), 43 CFR 10.9, of the completion of an inventory of human remains and associated funerary objects from Cass County, IN in the possession of the Indiana State Museum and Historic Sites, Indianapolis, IN.

This notice is published as part of the National Park Service's administrative responsibilities under NAGPRA, 43 CFR 10.2 (c). The determinations within this notice are the sole responsibility of the museum, institution, or Federal agency that has control of these Native American human remains and/or associated funerary objects. The National Park Service is not responsible for the determinations within this notice.

A detailed assessment of the human remains was made by Indiana State Museum and Historic Sites professional staff in consultation with representatives of the Miami Tribe of Oklahoma.

Prior to 1932, human remains representing one individual were recovered from a burial near the town of Walton, Cass County, IN by Noah F. Surface, who donated these human remains to the Indiana State Museum. No known individual was identified. The two associated funerary objects include a pewter pan and a suede leather hair bow with silver discs.

Based on associated funerary objects and skeletal morphology, this individual has been identified as Native American from the historic period, most likely to the first half of the 19th century. Because the hair bow is typical of the style worn by Miami women during the first half of the 19th century and skeletal morphology, this individual has been identified as an adolescent Miami woman. The burial location, five miles south of the Wabash River, is in an area intensively occupied by the Miami between A.D. 1795-1840.

Based on the above-mentioned information, officials of the Indiana State Museum and Historic Sites have determined that, pursuant to 43 CFR 10.2 (d)(1), the human remains listed above represent the physical remains of one individual of Native American ancestry. Officials of the Indiana State Museum and Historic Sites have also determined that, pursuant to 43 CFR 10.2 (d)(2), the two objects listed above are reasonably believed to have been placed with or near individual human remains at the time of death or later as part of the death rite or ceremony. Lastly, officials of the Indiana State Museum and Historic Sites have determined that, pursuant to 43 CFR 10.2 (e), there is a relationship of shared group identity that can be reasonably traced between these Native American human remains and associated funerary objects and the Miami Tribe of Oklahoma.

This notice has been sent to officials of the Miami Tribe of Oklahoma. Representatives of any other Indian tribe that believes itself to be culturally affiliated with these human remains and associated funerary objects should contact Bill Wepler, Curator of Anthropology, Indiana State Museum and Historic Sites, 202 North Alabama Street, Indianapolis, IN 46204, telephone (317) 232-8178, before August 21, 2000. Repatriation of the human remains and associated funerary objects to the Miami Tribe of Oklahoma may begin after that date if no additional claimants come forward.

Dated: June 15, 2000.
John Robbins,
Assistant Director, Cultural Resources Stewardship and Partnerships.

[FR Doc. 00-18464 Filed 7-20-00; 8:45 am]

BILLING CODE 4310-70-F